DEPARTMENT OF HEALTH AND HUMAN SERVICES

Health Resources and Services Administration

Meeting of the Advisory Committee on Organ Transplantation

AGENCY: Health Resources and Services Administration (HRSA), Department of Health and Human Services (HHS).

ACTION: Notice; correction.

SUMMARY: The Advisory Committee on Organ Transplantation (ACOT) meeting will be held by webinar and conference call, rather than in-person as previously announced, due to unforeseen circumstances. The webinar link, conference call-in number, registration information, and meeting materials can be accessed through the registration link posted on the ACOT website at https://www.organdonor.gov/about-dot/acot/meetings.html.

FOR FURTHER INFORMATION CONTACT: Robert Walsh, Designated Federal Official, (DFO), at Division of Transplantation, HRSA, 5600 Fishers Lane, 8W60, Rockville, Maryland 20857; 301-443-6839; or RWalsh@hrsa.gov.

Correction: Meeting will be held by webinar and conference call rather than in-person as previously announced.

Maria G. Button,
Director, Executive Secretariat.

[FR Doc. 2020-05727 Filed 3-18-20; 8:45 am]

BILLING CODE 4165-15-P